DEPARTMENT OF TRANSPORTATION

Federal Aviation Administration

14 CFR Part 39

[Docket No. FAA-2018-0057; Product Identifier 2017-SW-119-AD]

RIN 2120-AA64

Airworthiness Directives; Leonardo S.p.A. Helicopters

AGENCY: Federal Aviation Administration (FAA), DOT.

ACTION: Notice of proposed rulemaking (NPRM).

SUMMARY: We propose to adopt a new airworthiness directive (AD) for certain Leonardo S.p.A. (Leonardo) Model AW169 helicopters. This proposed AD would require replacing the seals, filler wedges, and handles of each emergency exit window. This proposed AD is prompted by a report that a high level of pushing force was required to jettison some windows. The actions of this proposed AD are intended to address an unsafe condition on these products.

DATES: We must receive comments on this proposed AD by November 13, 2018.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at http://www.regulations.gov by searching for and locating Docket No. FAA-2018-0057; or in person at Docket Operations between 9 a.m. and 5 p.m., Monday through Friday, except Federal holidays. The AD docket contains this proposed AD, the European Aviation Safety Agency (EASA) AD, the economic evaluation, any comments received, and other information. The street address for Docket Operations (telephone 800-647-5527) is in the ADDRESSES section. Comments will be available in the AD docket shortly after receipt.

For service information identified in this proposed rule, contact Leonardo S.p.A. Helicopters, Matteo Ragazzi, Head of Airworthiness, Viale G.Agusta 520, 21017 C.Costa di Samarate (Va) Italy; telephone +39-0331-711756; fax +39-0331-229046; or at http://www.leonardocompany.com/-/bulletins. You may review the referenced service information at the FAA, Office of the Regional Counsel, Southwest Region, 10101 Hillwood Pkwy., Room 6N-321, Fort Worth, TX 76177.

FOR FURTHER INFORMATION CONTACT: Matt Fuller, Senior Aviation Safety Engineer, Safety Management Section, Rotorcraft Standards Branch, FAA, 10101 Hillwood Pkwy., Fort Worth, TX 76177; telephone (817) 222-5110; email matthew.fuller@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2017-0155, dated August 23, 2017, to correct an unsafe condition for Leonardo Model AW169 helicopters, serial numbers 69007, 69009, 69011 to 69019 inclusive, 69021 to 69024 inclusive, 69027, 69032, 69033, 69041, 69045, and 69051. EASA advises that during scheduled replacement of emergency exit window seals on in-service Model AW169 helicopters, an “excessively high” level of pushing force was required to jettison some windows. Further investigation determined that the affected windows were incorrectly installed during manufacturing. The installation did not conform to the approved drawings during the first installation in the production line. According to EASA, due to the similarity in the manufacturing process, incorrect window installation may have occurred on Model AW169 helicopters. EASA states that this condition, if not corrected, could prevent the jettisoning of helicopter emergency exit windows, possibly affecting the evacuation of occupants after an emergency landing.

EASA consequently requires replacement of the seal, the non-metallic channel (filler wedges), and the handle of emergency exit windows installed in the cockpit doors and cabin.

FAA's Determination

These helicopters have been approved by the aviation authority of Italy and are approved for operation in the United States. Pursuant to our bilateral agreement with Italy, EASA, its technical representative, has notified us of the unsafe condition described in its AD. We are proposing this AD because we evaluated all known relevant information and determined that an unsafe condition is likely to exist or develop on other products of the same type design.

Related Service Information Under 1 CFR Part 51

We reviewed Leonardo Service Bulletin No. 169-032, Revision A, dated September 8, 2017, which specifies replacing the seals, the non-metallic channels, handles, and decals on the cockpit doors and cabin emergency exit windows.

This service information is reasonably available because the interested parties have access to it through their normal course of business or by the means identified in the ADDRESSES section.

Proposed AD Requirements

This proposed AD would require within 70 hours time-in-service (TIS), replacing the seals and filler wedges on various cockpit and passenger windows and replacing certain internal and external window straps. This proposed AD also would require replacing decals on certain internal and external passenger and cockpit windows.

Differences Between This Proposed AD and the EASA AD

The EASA AD requires that the corrective actions occur within 70 hours TIS or 6 months. This proposed AD would require that the corrective actions occur within 70 hours TIS.

Costs of Compliance

We estimate that this proposed AD would affect 1 helicopter of U.S. Registry and that labor costs average $85 a work-hour. Based on these estimates, we expect that 24 work-hours would be needed to replace the decal, seal, filler wedges, and handle of each emergency exit window installed in cockpit doors and the cabin. Parts would cost $1,500 for a total cost of $3,540 for this helicopter.

According to Leonardo's service information some of the costs of this proposed AD may be covered under warranty, thereby reducing the cost impact on affected individuals. We do not control warranty coverage by Leonardo. Accordingly, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Leonardo S.p.A.: Docket No. FAA-2018-0057; Product Identifier 2017-SW-119-AD.

(a) Applicability

This AD applies to Leonardo S.p.A. (Leonardo) Model AW169 helicopters, serial numbers 69007, 69009, 69011 through 69019, 69021 through 69024, 69027, 69032, 69033, 69041, 69045, and 69051, certificated in any category, where the emergency exit windows have never been removed and reinstalled.

(b) Unsafe Condition

This AD defines the unsafe condition as failure of an emergency window to jettison, which could prevent occupants from evacuating the helicopter during an emergency.

(c) Comments Due Date

We must receive comments by November 13, 2018.

(d) Compliance

You are responsible for performing each action required by this AD within the specified compliance time unless it has already been accomplished prior to that time.

(e) Required Actions

Within 70 hours time-in-service:

(1) Replace the seals and filler wedges on the left hand (LH) and right hand (RH) cockpit door upper windows.

Note 1 to paragraph (e) of this AD: Leonardo refers to filler wedges as “non-metallic channels.”

(2) Replace the seals and filler wedges on the forward LH and RH passenger door windows. For helicopters without passenger sliding window kit part number (P/N) 6F5630F00411, also replace the seals and filler wedges of the aft LH and RH passenger door windows.

(3) For helicopters with a strap P/N A487A003A, replace each strap with emergency exit window handle P/N 8G9500L00151 on the internal side of the window and P/N 8G9500L00251 on the external side of the window.

(4) Remove any decal P/N A180A005E21 from the internal side of the passenger and cockpit windows and replace with decal P/N A180A022E21, using as a reference Figure 1 and Figure 2 of Leonardo Service Bulletin No. 169-032, Revision A, dated September 8, 2017 (SB No. 169-032).

(5) Remove any decal P/N A487A003A from the external side of the passenger and cockpit windows and replace with decals P/N AW003DE005E33B, using as a reference Figure 3 of SB No. 169-032.

(f) Alternative Methods of Compliance (AMOCs)

(1) The Manager, Safety Management Section, Rotorcraft Standards Branch, FAA, may approve AMOCs for this AD. Send your proposal to: Matt Fuller, Senior Aviation Safety Engineer, Safety Management Section, Rotorcraft Standards Branch, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2017-0155, dated August 23, 2017. You may view the EASA AD on the internet at http://www.regulations.gov in the AD Docket.

(h) Subject

Joint Aircraft Service Component (JASC) Code: 5220, Emergency Exits

Issued in Fort Worth, Texas, on July 11, 2018.
Scott A. Horn,
Deputy Director for Regulatory Operations, Compliance & Airworthiness Division, Aircraft Certification Service.

[FR Doc. 2018-19736 Filed 9-12-18; 8:45 am]

BILLING CODE 4910-13-P